DEPARTMENT OF ENERGY

Agency Information Collection Extension

AGENCY: U.S. Department of Energy.

ACTION: Notice of request for comments.

SUMMARY: The Department of Energy (DOE), pursuant to the Paperwork Reduction Act of 1995, intends to extend for three years an information collection request with the Office of Management and Budget (OMB).

DATES: Comments regarding this proposed information collection must be received on or before March 17, 2025. If you anticipate any difficulty in submitting comments within that period, contact the person listed in the FOR FURTHER INFORMATION CONTACT section as soon as possible.

ADDRESSES: Written comments may be sent to Phillip Harmonick, Office of Hearings and Appeals, U.S. Department of Energy, 1000 Independence Avenue SW, 8G-090, Washington, DC 20585, or by email at Phillip.Harmonick@hq.doe.gov.

FOR FURTHER INFORMATION CONTACT: Phillip Harmonick, Office of Hearings and Appeals, U.S. Department of Energy, 1000 Independence Avenue SW, 8G-090, Washington, DC 20585, (202) 287-1566, Phillip.Harmonick@hq.doe.gov.

SUPPLEMENTARY INFORMATION: Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

This information collection request contains:

(1) OMB No.: 1910-5118.

(2) Information Collection Request Titled: Technology Partnerships Ombudsmen Reporting Requirements;

(3) Type of Review: Extension;

(4) Purpose: DOE's Alternative Dispute Resolution Office is required to collect reports, pursuant to the Technology Transfer Commercialization Act of 2000, from technology partnership ombudsmen at each DOE national laboratory. These reports are intended to demonstrate the extent to which each national laboratory has incorporated alternative dispute resolution techniques into its respective technology transfer program.

(5) Annual Estimated Number of Respondents: 17;

(6) Annual Estimated Number of Total Responses: 68;

(7) Annual Estimated Number of Burden Hours: 23;

(8) Annual Estimated Reporting and Recordkeeping Cost Burden: $3,220.

Statutory Authority: Section 11 of the Technology Transfer Commercialization Act of 2000, Public Law 106-404, codified at 42 U.S.C. 7261c(c)(3)(C).

Signing Authority

This document of the Department of Energy was signed on January 13, 2025, by Policarpio A. Marmolejos, Director, Office of Hearings and Appeals, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on January 13, 2025.
Jennifer Hartzell,
Alternate Federal Register Liaison Officer, U.S. Department of Energy.

[FR Doc. 2025-01054 Filed 1-15-25; 8:45 am]

BILLING CODE 6450-01-P